SMALL BUSINESS ADMINISTRATION

[Disaster Declaration #21100 and #21101; MISSISSIPPI Disaster Number MS-20012]

Presidential Declaration of a Major Disaster for the State of Mississippi

AGENCY: U.S. Small Business Administration.

ACTION: Notice.

SUMMARY: This is a Notice of the Presidential declaration of a major disaster for the State of Mississippi (FEMA-4874-DR), dated May 21, 2025.

Incident: Severe Storms, Straight-line Winds, Tornadoes, and Flooding.

DATES: Issued on May 21, 2025.

Incident Period: March 14, 2025 through March 15, 2025.

Physical Loan Application Deadline Date: July 21, 2025.

Economic Injury (EIDL) Loan Application Deadline Date: February 23, 2026.

ADDRESSES: Visit the MySBA Loan Portal at https://lending.sba.gov to apply for a disaster assistance loan.

FOR FURTHER INFORMATION CONTACT: Sharon Henderson, Office of Disaster Recovery & Resilience, U.S. Small Business Administration, 409 3rd Street SW, Suite 6050, Washington, DC 20416, (202) 205-6734.

SUPPLEMENTARY INFORMATION: Notice is hereby given that as a result of the President's major disaster declaration on May 21, 2025, applications for disaster loans may be submitted online using the MySBA Loan Portal https://lending.sba.gov or other locally announced locations. Please contact the SBA disaster assistance customer service center by email at disastercustomerservice@sba.gov or by phone at 1-800-659-2955 for further assistance.

The following areas have been determined to be adversely affected by the disaster:

Primary Counties (Physical Damage and Economic Injury Loans): Covington, Grenada, Issaquena, Itawamba, Jefferson Davis, Leflore, Marion, Montgomery, Pike, Smith, Walthall.

Contiguous Counties/Parishes (Economic Injury Loans Only):

Mississippi: Amite, Attala, Calhoun, Carroll, Choctaw, Forrest, Holmes, Humphreys, Jasper, Jones, Lamar, Lawrence, Lee, Lincoln, Monroe, Newton, Pearl River, Prentiss, Rankin, Scott, Sharkey, Simpson, Sunflower, Tallahatchie, Tishomingo, Warren, Washington, Webster, Yalobusha, Yazoo.

Alabama: Franklin, Marion.

Arkansas: Chicot.

Louisiana: East Carroll, Tangipahoa, Washington.

The Interest Rates are:

| Percent
For Physical Damage:
Homeowners with Credit Available Elsewhere | 5.500
Homeowners without Credit Available Elsewhere | 2.750
Businesses with Credit Available Elsewhere | 8.000
Businesses without Credit Available Elsewhere | 4.000
Non-Profit Organizations with Credit Available Elsewhere | 3.625
Non-Profit Organizations without Credit Available Elsewhere | 3.625
For Economic Injury:
Business and Small Agricultural Cooperatives without Credit Available Elsewhere | 4.000
Non-Profit Organizations without Credit Available Elsewhere | 3.625

The number assigned to this disaster for physical damage is 21100C and for economic injury is 211010.

(Catalog of Federal Domestic Assistance Number 59008)

James Stallings,
Associate Administrator, Office of Disaster Recovery & Resilience.

[FR Doc. 2025-09839 Filed 5-30-25; 8:45 am]

BILLING CODE 8026-09-P